DEPARTMENT OF AGRICULTURE

Animal and Plant Health Inspection Service

7 CFR Part 301

[Docket No. 98-125-2]

Imported Fire Ant; Quarantined Areas and Treatment

AGENCY: Animal and Plant Health Inspection Service, USDA.

ACTION: Affirmation of interim rule as final rule.

SUMMARY: We are adopting as a final rule, without change, an interim rule that amended the imported fire ant regulations by designating as quarantined areas all or portions of three counties in California, two counties in Georgia, one county in New Mexico, four counties in North Carolina, and one county in Tennessee. As a result of the interim rule, the interstate movement of regulated articles from those areas is restricted. The interim rule was necessary to prevent the artificial spread of the imported fire ant to noninfested areas of the United States. The interim rule also amended the treatment provisions in the Appendix to the imported fire ant regulations by removing all references to the granular formulation of chlorpyrifos because it is no longer marketed for the treatment of grass sod or woody ornamentals.

EFFECTIVE DATE: The interim rule became effective on May 21, 1999.

FOR FURTHER INFORMATION CONTACT: Mr. Ronald P. Milberg, Operations Officer, Program Support, PPQ, APHIS, 4700 River Road Unit 134, Riverdale, MD 20737-1236; (301) 734-5255.

SUPPLEMENTARY INFORMATION:

Background

In an interim rule effective and published in the Federal Register on May 21, 1999 (64 FR 27657-27660, Docket No. 98-125-1), we amended the imported fire ant (IFA) regulations in 7 CFR part 301 by designating as quarantined areas all or portions of three counties in California, two counties in Georgia, one county in New Mexico, four counties in North Carolina, and one county in Tennessee. We also amended the treatment provisions in the Appendix to the IFA regulations by removing all references to the granular formulation of chlorpyrifos.

Comments on the interim rule were required to be received on or before July 20, 1999. We did not receive any comments. Therefore, for the reasons given in the interim rule, we are adopting the interim rule as a final rule.

This action also affirms the information contained in the interim rule concerning Executive Orders 12866, 12372, and 12988, and the Paperwork Reduction Act.

Further, for this action, the Office of Management and Budget has waived the review process required by Executive Order 12866.

Regulatory Flexibility Act

This rule affirms an interim rule that amended the IFA regulations by designating all or portions of the following counties as quarantined areas: Los Angeles, Orange, and Riverside Counties in California; Habersham and White Counties in Georgia; Dona Ana County in New Mexico; Bertie, Chowan, Martin, and Perquimans Counties in North Carolina; and Madison County in Tennessee. The interim rule was necessary because surveys conducted by APHIS and State and county agencies revealed that IFA has spread to these areas. As a result, the interstate movement of regulated articles from these areas is restricted.

The following analysis addresses the economic effect of this rule on small entities, as required by the Regulatory Flexibility Act.

There are approximately 3,227 agricultural entities in the newly regulated areas with annual sales totaling almost $3.8 billion. We have identified approximately 905 affected entities in the newly regulated areas, including nurseries, sod and hay growers, farm equipment dealers, landscaping companies, and construction companies. The majority of these entities would be considered small businesses. In 1997, the market value of crop sales for the affected entities was more than $467,262,000. We do not know how many of the affected entities move regulated articles interstate; however, the availability of various IFA treatments, which permit the interstate movement of regulated articles with only a small additional cost, minimizes any adverse economic effects due to the interim rule. The average cost for treating a 1 gallon container, which contains one nursery plant, is 2 cents. The average treatment cost for a standard shipment of 10,000 nursery plants, worth anywhere between $10,000 and $250,000, is $200. Entities that do not move regulated articles interstate remain unaffected by the interim rule.

The interim rule also amended the treatment provisions in the Appendix to the IFA regulations by removing all references to the granular formulation of chlorpyrifos because it is no longer marketed for the treatment of grass sod or woody ornamentals. Removing all references to granular chlorpyrifos in the Appendix to the IFA regulations will not have any economic effect on affected entities.

Under these circumstances, the Administrator of the Animal and Plant Health Inspection Service has determined that this action will not have a significant economic impact on a substantial number of small entities.

List of Subjects in 7 CFR Part 301

Agricultural commodities, Plant diseases and pests, Quarantine, Reporting and recordkeeping requirements, and Transportation.

PART 301—DOMESTIC QUARANTINE NOTICES

Accordingly, we are adopting as a final rule, without change, the interim rule that amended 7 CFR part 301 and that was published at 64 FR 27657-27660 on May 21, 1999.

Authority: 7 U.S.C. 147a, 150bb, 150dd, 150ee, 150ff, 161, 162, and 164-167; 7 CFR 2.22, 2.80, and 371.2(c).

Done in Washington, DC, this 28th day of January 2000.
Bobby R. Acord,
Acting Administrator, Animal and Plant Health Inspector Service.

[FR Doc. 00-2380 Filed 2-2-00; 8:45 am]

BILLING CODE 3410-34-U